DEPARTMENT OF HOMELAND SECURITY

[Docket No. DHS-2017-0061]

Private Sector Clearance Program, Cooperative Research and Development Agreement, and Classified Critical Infrastructure Protection Program Request

AGENCY: Office of Infrastructure Protection (IP), National Protection and Programs Directorate (NPPD), Department of Homeland Security (DHS).

ACTION: 60-Day notice and request for comments; revised collection, 1670-0013.

SUMMARY: DHS NPPD IP will submit the following information collection request (ICR) to the Office of Management and Budget (OMB) for review and clearance in accordance with the Paperwork Reduction Act of 1995. Partnerships between the U.S. Government and the private sector at times necessitates the sharing of classified information. The Private Sector Clearance Program (PSCP), Cooperative Research And Development Agreement (CRADA), and Classified Critical Infrastructure Protection Program (CCIPP) Request Form facilitates this sharing by sponsoring security clearances for certain private sector partners.

DATES: Comments are encouraged and will be accepted until April 2, 2018.

ADDRESSES: You may submit comments, identified by docket number DHS-2017-0061, by one of the following methods:

• Federal eRulemaking Portal: http://www.regulations.gov. Please follow the instructions for submitting comments.

• Email: PSCP@HQ.DHS.GOV. Please include docket number DHS-2017-0061 in the subject line of the message.

• Mail: Written comments and questions about this Information Collection Request should be forwarded to DHS/NPPD/IP, ATTN: 1670-0013, 245 Murray Lane SW, Mail Stop 0380, Arlington, VA 20598-0640.

Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Quintin Whitaker at 703-235-9485 or at PSCP@HQ.DHS.GOV.

SUPPLEMENTARY INFORMATION: Partnerships between the U.S. Government and the private sector at times necessitate the sharing of classified information. The PSCP and Cyber Information Sharing and Collaboration Program (CISCP) facilitate this sharing by sponsoring security clearances for certain members of each sector based on either their membership on a Sector Coordinating Council (SCC)/association or their infrastructure protection job-related duties. In order to begin the process of approving a nominee to participate in the clearance program, DHS collects the nominee's employment information and Personally Identifiable Information (PII). The nominee's association/SCC membership or employment information is reviewed for approval, and his or her PII is input into the Electronic Questionnaires for Investigations Processing (e-QIP) system, the Office of Personnel Management's (OPM) secure portal for investigation processing.

The U.S. Government is authorized to ask for this information under Section 201 of the Homeland Security Act of 2002 (Pub. L. 107-296, 6 U.S.C. 121), and Executive Orders 12968, 13526, and 13549, which authorize the collection of this information.

The PSCP is designed to facilitate access to security clearances for private sector officials involved in the infrastructure protection mission. The CISCP is designed to facilitate access to security clearances for private sector entities involved in cybersecurity information sharing related to the National Cybersecurity Communications Integration Center (NCCIC) via CRADAs and for individuals via the CCIPP. CRADAs are agreements between the U.S. government and private entities for joint research and development efforts, and can be used to create bi-directional information sharing frameworks between DHS and private sector entities. The CCIPP, commonly referred to as the “Hybrid,” is a tool through which DHS shares classified cybersecurity-related information with critical infrastructure partners. These partners are subject matter experts within specific industries and have specialized knowledge not available within DHS. Private citizens do not receive monetary compensation for their time. DHS has created these programs to sponsor clearances for these individuals who are not employed by or contracted with another Federal agency (the traditional means of obtaining a clearance) and must have clearances.

Program changes require a revision of the existing collection. These changes include: Updating the title of the collection, the form being used by CISCP, and updates to the form itself. The form will be used by the CISCP in the same manner as the PSCP to sponsor private sector entities and individuals for security clearances. The CISCP will increase the burden totals by 360 responses, 60 burden hours, and $6,155 annual burden cost. For the PSCP, the burden estimates have decreased by 200 responses, 33 burden hours and $706 annual burden cost based on actual responses received. As a result, the total burden estimates will increase overall by 160 responses, 27 burden hours, $5,448 annual burden costs.

The changes to the form itself include: adding CRADA and CCIPP to the title; adding drop down capabilities relevant for the CRADA and the CCIPP, adding justification guidance to the back of the form, and updating the wording of the field titles and instructions to improve clarity. The changes to the form itself will not change the burden estimates as the only field being added is a menu to distinguish the program type.

The annual government cost for the collection has increased by $242,850 due to the addition of the CISCP and has increased by $91,998 for the PSCP due to updated wage rates. As a result, the annual government cost has increased by $334,848.

This is a revised information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Private Sector Clearance Program, Cooperative Research and Development Agreement, and Classified Critical Infrastructure Protection Program Request.

OMB Control Number: 1670-0013.

Frequency: Annually.

Affected Public: Private and Public Sector.

Number of Respondents: 660.

Estimated Time per Respondent: 10 minutes.

Total Burden Hours: 110 hours.

Total Burden Cost (capital/startup): $0.

Total Recordkeeping Burden: $0.

Total Burden Cost (operating/maintaining): $0.

David Epperson,
Chief Information Officer.

[FR Doc. 2018-02009 Filed 1-31-18; 8:45 am]

BILLING CODE 9110-9P-P